DEPARTMENT OF THE INTERIOR

Bureau of Land Management

[CA-310-1820-AE]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Wednesday and Thursday, Oct. 23 and 24, 2002, at the Weaverville Victorian Inn, 1709 Main St., Weaverville, California. On Oct. 23, the meeting begins at 10 a.m. Council members will participate in a field tour to BLM-managed areas in Trinity County. On Oct. 24, the meeting begins at 8 a.m. in the Victorian Inn Conference Room. Time for public comments has been set for 1 p.m.

FOR FURTHER INFORMATION CONTACT: Lynda J. Roush, Field Manager, BLM Arcata Field Office, 1895 Heindon Rd., Arcata, CA 95521, or telephone (707) 825-2300; or BLM Public Affairs Officer Joseph J. Fontana, telephone (530) 252-5332.

SUPPLEMENTARY INFORMATION: The 12-member council advises the Secretary of the Interior, through the BLM, on a variety of planning and management issues associated with public land management in Northwest California. At this meeting, agenda topics include a proposal for development of a Weaverville Community Forest, an overview of fire and fuels projects, and review of a grant proposal for the Chappie-Shasta Off Highway Vehicle Area near Redding, California. Members will also hear reports from managers of the BLM's Arcata, Redding and Ukiah field offices.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: August 19, 2002.
Joseph J. Fontana,
Public Affairs Officer.

[FR Doc. 02-21606 Filed 8-23-02; 8:45 am]

BILLING CODE 4310-40-P